DEPARTMENT OF HEALTH AND HUMAN SERVICES

Office of Inspector General

Program Exclusions: June 2001

AGENCY: Office of Inspector General, HHS.

ACTION: Notice of program exclusions.

During the month of June 2001, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
PROGRAM-RELATED CONVICTIONS
ANDERSON, JOHN WARD | 07/19/01
INDIANAPOLIS, IN
BEVERLY ENTERPRISES-CALIFORNIA | 06/01/01
FORT SMITH, AR
CHAMPION, DARON | 07/19/01
DECATUR, GA
CHOPRA, AMARJIT S | 07/19/01
SUFFERN, NY
CREATIVE TUTORIAL, L L C | 01/16/01
ST LOUIS, MO
DE OCA, NORKA MONTES | 07/19/01
OPA LOCKA, FL
DEJOURNETT, MARY | 07/19/01
RENO, NV
ELLIOTT-WOODY, TERESA L | 07/19/01
W WARWICK, RI
ESCUDERO, DANIEL | 07/19/01
MIAMI, FL
GONZALEZ, ZORAIDA ORTEGA | 07/19/01
DELTONA, FL
GREENFIELD, RONALD W | 07/21/00
WALL, NJ
HANNEMAN, DENISE D | 07/19/01
NEW LONDON, WI
HARTZELL, ROBERT | 07/19/01
SPRINGHILL, FL
HONAKER, MELISSA GALE | 07/19/01
WAPATO, WA
HUERTA, EUSEBIO | 04/19/01
MIAMI, FL
IZQUIERDO, AMAURY | 07/19/01
FT LAUDERDALE, FL
KELLEY, MORRIS E | 09/21/00
COCOA BEACH, FL
LAUNSBY, MAVIS | 07/19/01
BROWNSVILLE, TX
LIMA, PATRICE LOUISE | 07/19/01
FRESNO, CA
LOPEZ, EDELBERTO | 07/19/01
MIAMI, FL
MARIANOVSKY, ZHANNA | 07/19/01
BROOKLYN, NY
OROPESA, DELIA MARIA | 07/19/01
MIAMI, FL
OTERO, NORMA L | 07/19/01
MIAMI, FL
RATER, STEPHEN W | 04/13/01
OREGON, WI
RIOS, JOSE | 07/19/01
ELIZABETH, NJ
SARANTIS, KOSMAS | 07/19/01
TARPON SPRINGS, FL
SIDDIQUI, SHOAIB HUSSAIN | 07/19/01
E HANOVER, NJ
STEYER, SHARON L | 07/19/01
WINTER PARK, FL
SUTHERLAND, JOHN MICHAEL | 09/21/00
COCOA BEACH, FL
VILLARREAL, CORINA KATHERINE | 07/19/01
VISALIA, CA
VIVANCO, CARIDAD | 07/19/01
MIAMI, FL
WEBB, STEPHANIE M | 07/19/01
ATLANTA, GA
ZIMMERMAN, RAYMOND | 07/19/01
PALM HARBOR, FL
FELONY CONVICTION FOR HEALTH CARE FRAUD
FERDOWS, DEAN | 07/19/01
CANOGA PARK, CA
VALENTINE, JULIE | 07/19/01
MARINA DEL REY, CA
FELONY CONTROL SUBSTANCE CONVICTION
BROWN, LEETHA W LEWIS | 07/19/01
VERSAILLES, KY
KRUSEN, DONNA INGLE | 07/19/01
ARLINGTON, TX
MULLINS, PHYLLIS ANN | 07/19/01
GULFPORT, MS
SHODA, DOROTHY ANN | 07/19/01
FORT WAYNE, IN
WORSENCROFT, NORALEE | 07/19/01
VIRGINIA BCH, VA
PATIENT ABUSE/NEGLECT CONVICTIONS
ALFORD, HERBERT W | 07/19/01
PAMPLICO, SC
BERRY, SANDRA SUE | 07/19/01
ROSHARON, TX
BLAIR, DARREL LAMONT | 07/19/01
NASHVILLE, TN
CAMERON, SHIRLEY JAUNICE | 07/19/01
WAVELAND, MS
CARPENTER, MILTON L | 07/19/01
GULFPORT, MS
CHANEY, KATTIE M | 07/19/01
HATTIESBURG, MS
CHRISTMAS, CHRISTOPHER COLUMBU | 07/19/01
BUNKIE, LA
COCKRELL, JOHNNIE | 07/19/01
SALEM, OR
CRANE, KONUTA HELEN | 07/19/01
CUSHING, OK
DENTON, STEPHEN L | 07/19/01
ATHENS, TN
ELLIOTT, MARY LOUISE | 07/19/01
FAIRHOPE, AL
HAYES, JOSEPH S | 07/19/01
JOHNSON CITY, TN
HAZELTON, CYNTHIA J | 07/19/01
EAU CLAIRE, WI
KAYDE, AVANELL | 07/19/01
MILWAUKEE, WI
KEITH, COWETA FAYE | 07/19/01
CRIPPLE CREEK, CO
MAGANA, NYTERIA YVETTE | 07/19/01
HERALD, CA
MCDOUGALL, PATRICIA L | 07/19/01
PLAINS, MT
MCDOWELL, DEBORAH | 07/19/01
CLARKSDALE, MS
MONTEITH, BARBARA MARIE | 07/19/01
CHRISTIANA, TN
MOORE, ELLIOTT BRUCE | 07/19/01
UTICA, NY
OREE, JERRY LOUIS | 07/19/01
COLUMBIA, SC
PAYTON, DARNELL | 07/19/01
DEKALB, MS
PETERSON, RICKY A | 07/19/01
KNOXVILLE, TN
PRICE, THOMAS D | 07/19/01
LAUREL, MS
ROSEN, STEPHEN CLARK | 07/19/01
RESEDA, CA
SANTANA, SUSAN | 07/19/01
RIVERHEAD, NY
SCHULTZ, JOHN P | 07/19/01
PLAIN, WI
SMITH, JENNIFER L | 07/19/01
MEMPHIS, TN
WILLIAMS, MARVIN RAY | 07/19/01
GLENMORA, LA
LICENSE REVOCATION/SUSPENSION/SURRENDER
ALBERTSON, KELLY J | 07/19/01
OTTUMWA, IA
AMBERS, MARTIN WILLIAM | 07/19/01
VACAVILLE, CA
APARICIO, DANIEL ANGEL | 07/19/01
EL MONTE, CA
ARMENTROUT, TANNY J | 07/19/01
FOUNTAIN, CO
BANTA, KENNETH M | 07/19/01
DAYTON, KY
BAUMGART, TERRY D | 07/19/01
SAN PEDRO, CA
BECKWIN, JOSEPH AYER | 07/19/01
FAIRFIELD, AL
BERRIOS, GERALDINE G | 07/19/01
SYRACUSE, NY
BIRD, DELORES GAIL BAKER | 07/19/01
WILLIAMSBURG, KY
BOYD, MELINDA ANN | 07/19/01
MIDLAND, TX
BULLION, THOMAS C | 07/19/01
OXFORD, MS
BURNS, BRIAN THOMAS | 07/19/01
AUBURN, NY
BURNS, KATHLEEN M | 07/19/01
PORTLAND, OR
BUSI, JOHN L | 07/19/01
COLUMBUS, OH
BUTKOVSKY, CLAIRE LORRAINE | 07/01/01
LEXINGTON, KY
CAI, ZUO PING | 07/19/01
EL MONTE, CA
CARNEY, DEBORAH A | 07/19/01
ROCHESTER, NY
CHALLMAN, RONALD JAMES | 07/19/01
LOUISVILLE, KY
CHAROENKUL, CHOMYONG KULVANICH | 07/19/01
ARDSLEY, NY
CHRISTENSEN, CHRIS ARTHUR | 07/19/01
SILVERTON, ID
CHRISTMAS, DONNA | 07/19/01
GRINNELL, IA
CONDER-STONE, FRANCES D | 07/19/01
OWENSBORO, KY
DAILY, GALE | 07/19/01
WILLINGBORO, NJ
DAVIS, SUSAN ELIZABETH | 07/19/01
SCOTTSBORO, AL
DEAN, NANCY C | 07/19/01
HOUSTON, TX
DELAROSA, LISA G BONZA | 07/19/01
LOUISVILLE, KY
DIPRIMA, RICHARD | 07/19/01
MADISON, WI
EASTHAM, JUDITH ANN | 07/19/01
KERNERSVILLE, NC
EDEN, VALLIE D | 07/19/01
BLOOMINGTON, IN
FROST, DEVORAH C | 07/19/01
SAN ANTONIO, TX
GARDNER, JIMMY L | 07/19/01
ORANGEBURG, SC
GIRGIS, ALFRED | 07/19/01
LOS ANGELES, CA
GRESHAM, JOAN LESLIE | 07/19/01
JEMISON, AL
GRESSETT, PHILLIP D | 07/19/01
CHRISTOVAL, TX
GRIFFIN, CHELSEA LEA | 07/19/01
DAPHNE, AL
HAAS, WILLIAM L | 07/19/01
GRAND JUNCTION, CO
HAMPTON, VICTORIA L SMITH | 07/19/01
LOUISVILLE, KY
HARDRICK, CARRIE RUTH | 07/19/01
COTTONWOOD, AL
HARRIS, DONNA | 07/19/01
SUMRALL, MS
HAYYAT, SAMI | 07/19/01
MIDDLEBURY, VT
HENDERSON, RHUNDA FAYE | 07/19/01
SMITHVILLE, TX
HOWELL, JAMIE L SHOULDERS | 07/19/01
SHEPHERDSVILLE, KY
JANSSEN, KENNETH MICHAEL | 07/19/01
TOW, TX
JENKINS, JUDITH GREFF | 07/19/01
SAN ANTONIO, TX
JEPPSON, NATHAN B | 07/19/01
W VALLEY CITY, UT
KOTTMAN, MICHELLE A | 07/19/01
CEDAR RAPIDS, IA
LAJEVIC, JAMES C | 07/19/01
BOULDER CITY, NV
LASSITER, MICHELLE SUE | 07/19/01
SUMMERDALE, AL
LEMOINE, JANA BERNADETTE | 07/19/01
AUSTIN, TX
LEWIS, RALPH JR | 07/19/01
PHILADELPHIA, MS
MANTLE, LISA DIANE BOGLE | 07/19/01
FANCY FARM, KY
MARX, OLIVEA A | 07/19/01
LOVELAND, CO
MATEJCEK, BEVERLY J DAY | 07/19/01
DAVENPORT, IA
MCKENZIE, JANIS | 07/19/01
ASHLAND, MS
MCNALLY, MARCY | 07/19/01
PHILADELPHIA, MS
MOORE, KENNETH G | 07/19/01
LEXINGTON, KY
MORRISON, CYNTHIA | 07/19/01
ITHACA, NY
NICHOLS, WILLIAM KEVIN | 07/19/01
PHILADELPHIA, MS
OWEN, EVELYN PIPES | 07/19/01
WALLS, MS
OWENS, CABE MICHAEL | 07/19/01
HOUSTON, TX
PANDLY, RAJENDRA P | 07/19/01
DENVER, CO
PEUGEOT, RENEE L | 07/19/01
BOEME, TX
PHAM, THUY DENNIS | 07/19/01
LANSDALE, PA
POLVICK, CHRISTY ANN | 07/19/01
WICKLIFFE, KY
PORTER, SENIETTA BECK | 07/19/01
ELGIN, IL
PRATHER, DENISE | 07/19/01
EUNICE, LA
PRECHTEL, ELAINE R | 07/19/01
JASPER, IN
PRITCHARD, DARCY L | 07/19/01
CASTORLAND, NY
PUGH, GINGER IRENE | 07/19/01
CORDOVA, AL
RAMSEY, LISA K | 07/19/01
MERCER, MO
RAVENELL, VENESSIA | 07/19/01
SAINT STEPHEN, SC
RAY, MARY E | 07/19/01
BATESVILLE, MS
REGENOLD, ALISA ANN | 07/19/01
LEROY, IL
RICCA, JUDITH D | 07/19/01
OCEAN SPRINGS, MS
RICHMOND, MARY RUTH | 07/19/01
PROVO, UT
RICKETTS, WILBERT GEORGE | 07/19/01
INDIANAPOLIS, IN
RILEY, KAYLA | 07/19/01
BOULDER, CO
ROLEY, THOMAS JUSTIN | 07/19/01
STOCKTON, CA
ROSE, MELODY R | 07/19/01
COLORADO SPRNGS, CO
ROUNTREE, WILLIAM DONALD | 07/19/01
LOUISVILLE, KY
SAMS, JOHN ELLIOT POLSON | 07/19/01
COLUMBUS, MS
SANTIAGO, RUTH MARIE | 07/19/01
NEWARK, NJ
SATTERFIELD, REBECCA LYNN | 07/19/01
DE SOTO, IL
SCHUSSLER, CHRISTINA MARIE | 07/19/01
MUNCIE, IN
SCOLF, SHERRI ANN FIELDS | 07/19/01
BROOKSVILLE, KY
SCOTT, JANICE Y | 07/19/01
NASHVILLE, TN
SHOEMAKER, KIMBERLY COLLIE | 07/19/01
LAKELAND, FL
SHOGREN, TERESA A | 07/19/01
MARSHALLTOWN, IA
SIMS, LOYD | 07/19/01
VANCLEAVE, MS
SLACK, EDWARD GEORGE | 07/19/01
SACRAMENTO, CA
SLONE, JEANETTA RISNER | 07/19/01
BULAN, KY
SMITH, GREGORY MARK | 07/19/01
SAN FRANCISCO, CA
SMITH, WANDA C | 07/19/01
CANON CITY, CO
STIR, DWAINE EDWARD | 07/19/01
PADUCAH, KY
STOFFEL, MARY BETH | 07/19/01
PATOKA, IL
STRANDER, LORALI H | 07/19/01
AMMON, ID
SUMCHAI, AHIMSA PORTER | 07/19/01
SAN FRANCISCO, CA
SWANSON, JULIA ANN | 07/19/01
GALESBURG, IL
TOYER, CEDRIC DEMETRIUS | 07/19/01
BIRMINGHAM, AL
TREMONTANA, NORMA CAROLYN ESTE | 07/19/01
PRATTVILLE, AL
VAUGHT, CORINNE | 07/19/01
NAMPA, ID
WARE, ROBERT DAKIN | 07/19/01
POPLARVILLE, MS
WEATHERMAN, SCOTT | 07/19/01
LOUISVILLE, KY
WELLS, JANET L | 07/19/01
ROY, UT
WHITWORTH, DAVID LEE | 07/19/01
LOUISVILLE, KY
WILLIAMS, CINDY SHARON | 07/19/01
PHOENIX, AZ
WOOD, JOANIE LYNN | 07/19/01
TALLADEGA, AL
WRIGHT, ROSCOE EMANUEL | 07/19/01
DETROIT, MI
FEDERAL/STATE EXCLUSION/SUSPENSION
BARROS, CAMILO J | 07/19/01
LINCOLNWOOD, IL
HOLLAND, VICTORIA R | 07/19/01
WOODLAND HILLS, CA
FRAUD/KICKBACKS
GREENBERG, PATRICIA | 01/16/01
ST LOUIS, MO
IGBOKWE, ONYUWOMA NICHOLAS | 05/19/00
HOUSTON, TX
OLMO, JAIME ALBERTO | 05/19/00
HOUSTON, TX
OLMO, JAVIER A | 05/19/00
SUGARLAND, TX
SHELTON, SUSAN LEE | 04/17/01
PHOENIX, AZ
SUEN, SZE MING | 02/23/01
MILILANI, HI
SUEN, LURENA | 02/23/01
MILILANI, HI
VIDALES, ROSA I | 05/19/00
SUGARLAND, TX
WAHIAWA CLINIC, INC | 02/23/01
WAHIAWA, HI
OWNED/CONTROLLED BY CONVICTED EXCLUDED
A & A MEDICAL CENTER CORP | 07/19/01
MIAMI, FL
ADVANCED OPTICAL, INC | 07/19/01
TRENTON, NJ
BEST MEDICAL CARE, INC | 07/19/01
MIAMI, FL
NEXT LEVEL PERSONAL FITNESS SY | 07/19/01
OAKLAND, CA
DEFAULT ON HEAL LOAN
ALKAMSHEH, IBRAHIM | 07/19/01
DALLAS, TX
ARMITAGE, SHERRI A | 07/19/01
EDGELEY, ND
ASATO, THERESA T | 07/19/01
REDDING, CA
ASSEM, AHMAD H | 07/19/01
SAN JOSE, CA
BULLARD, DANIEL H | 07/19/01
ORLAND PARK, IL
DISALVO, CRISTINO G | 07/19/01
WILLIAMSPORT, PA
DRUCTOR, JAMES D | 07/19/01
PITTSBURGH, PA
EZZEH, MARY A | 05/29/01
GARLAND, TX
FINCH, JOHNNY L | 07/19/01
ELIZABETH CITY, NC
GREMONPREZ, JUDY A | 07/19/01
SPRINGFIELD, MO
HASSAPAKIS, CRAIG L | 07/19/01
MODESTO, CA
HAUKAAS, THOMAS F | 07/19/01
TAMPA, FL
ICHIUJI, ARNOLD T | 07/19/01
SALINAS, CA
INGALLS, JAMES ARDEN | 07/19/01
CARROLLTON, TX
JONES, YVONNE | 07/19/01
UPPER DARBY, PA
KAY, ROBERT J | 07/19/01
ELLICOTT CITY, MD
KIRVEN, LISA D | 07/19/01
BRONX, NY
KUPSC, ROBERT | 07/19/01
WEYMOUTH, MA
LARNER, JEFFREY T | 07/19/01
PITTSBURGH, PA
LEE, STEVE YONGSIK | 07/19/01
CLIFTON, NJ
LEFKOWITZ, GERALD ALLEN | 07/19/01
CHARLOTTE, NC
LEVISON, ROBERT | 07/19/01
PHOENIX, AZ
LOCKHART, WALTER CORNELL JR | 07/19/01
ANNAPOLIS, MD
MADUFORD, ALOYSIUS C | 07/19/01
YORK, PA
NDUBISI, BONIFACE U | 07/19/01
JACKSONVILLE, FL
PERRY, MAURICE ANTHONY | 07/19/01
RESEDA, CA
POGUE, JOHN G | 07/19/01
SHREVEPORT, LA
SANDERS, BETHANNE L | 07/19/01
CHEVY CHASE, MD
STONE, DONALD KIM | 07/19/01
CLEARWATER, FL
STRANKMAN, NANCY ANN | 07/19/01
TUCKER, GA
STRICKLAND, JEFFREY LEE | 07/19/01
NORCROSS, GA
SUWANTAVEESRI, TATSANEE | 07/19/01
MIDDLESEX, NJ
TALBOT, LISA M | 07/19/01
NEW BEDFORD, MA
VAN NICE, DENNIS G | 07/19/01
MIDLAND, TX
WESSON, MICAH A | 07/19/01
SHERMAN, TX
WHITE, SHARON L | 07/19/01
PALM HARBOR, FL
WOODBERRY-WRIGHT, GERALDINE | 07/19/01
HAMPTON, VA
PEER REVIEW ORGANIZATION CASES
GARDNER, BILLY L | 04/17/87
HARPER, KS

Dated: June 29, 2001.
Calvin Anderson, Jr.,
Director, Health Care Administrative Sanctions, Office of Inspector General.

[FR Doc. 01-17878 Filed 7-17-01; 8:45 am]

BILLING CODE 4150-04-P